NATIONAL AERONAUTICS AND SPACE ADMINISTRATION

[Notice (04-022)]

President's Commission on Implementation of United States Space Exploration Policy; Meeting

AGENCY: National Aeronautics and Space Administration (NASA).

ACTION: Notice of meeting.

SUMMARY: In accordance with the Federal Advisory Committee Act, Public Law 92-463, as amended, the National Aeronautics and Space Administration announces a meeting of the President's Commission on Implementation of United States Space Exploration Policy.

DATES: Wednesday, February 11, 2004, 9 a.m. to 5 p.m.

ADDRESSES: National Transportation Safety Board, Conference Center, 429 L'Enfant Plaza, Washington, DC 20954.

FOR FURTHER INFORMATION CONTACT: Mr. Steven Schmidt, Office of the Administrator, National Aeronautics and Space Administration, Washington, DC, (202) 358-1808.

SUPPLEMENTARY INFORMATION: The meeting will be open to the public up to the seating capacity of the room. The agenda for the meeting is as follows:

—Welcoming remarks by Chairman Pete Aldridge

—Introduction of Commission Members

—Overview of Commission Charter and Goals

—Review of accomplishments of previous commissions, such as Pioneering the Space Frontier (Augustine) and America's Space Exploration Initiative (Stafford)

—Testimony by Federal agencies associated with space exploration

—Comments and discussion

—Closing comments

The reason for the late notice is that the arrangements for the meeting were made in anticipation of the short time frame in which the Commission is expected to finish its work. However, due to unanticipated delays in getting the charter finalized, and the difficulty of changing meeting arrangements at this time, it is not possible to accommodate the full notice period.

Visitors will be requested to sign a visitor's register.

Michael F. O'Brien,
Assistant Administrator for External Relations, National Aeronautics and Space Administration.

[FR Doc. 04-2638 Filed 2-4-04; 8:45 am]

BILLING CODE 7510-01-P